DEPARTMENT OF LABOR

Employment and Training Administration

[TA-W-63,981]

Prime Tanning Company, Incorporated, Berwick, ME; Notice of Revised Determination on Reconsideration

On January 2, 2009, the Department issued an Affirmative Determination Regarding Application for Reconsideration for the workers and former workers of subject firm. The Department's Notice of affirmative determination was published in the Federal Register on January 15, 2009 (74 FR 2632). Subject firm workers produce tanned leather.

The negative determination was based on the Department's findings that the subject firm did not shift production to a foreign country and that neither the subject firm nor its major declining customers increased imports of articles like or directly competitive with those produced by the subject firm.

During the reconsideration investigation, the Department received new information that a major declining customer had increased its reliance on imports of articles like or directly competitive with those produced by the subject firm. Therefore, the Department determines that increased imports contributed importantly to subject firm declines and workers' separations.

In accordance with Section 246 the Trade Act of 1974 (26 U.S.C. 2813), as amended, the Department herein presents the results of its investigation regarding certification of eligibility to apply for ATAA. The Department has determined in this case that the group eligibility requirements of Section 246 have been met.

A significant number of workers at the firm are age 50 or over and possess skills that are not easily transferable. Competitive conditions within the industry are adverse.

Conclusion

After careful review of the additional facts obtained on reconsideration, I conclude that increased imports of articles like or directly competitive with those produced at Prime Tanning Company, Inc., Berwick, Maine, contributed importantly to the declines in sales or production and to the total or partial separation of workers at the subject firm. In accordance with the provisions of the Act, I make the following certification:

“All workers of Prime Tanning Company, Inc., Berwick, Maine, who became totally or partially separated from employment on or after September 2, 2007, through two years from the date of this certification, are eligible to apply for adjustment assistance under Section 223 of the Trade Act of 1974, and are eligible to apply for alternative trade adjustment assistance under Section 246 of the Trade Act of 1974.”

Signed at Washington, DC this 5th day of March 2009.
Elliott S. Kushner,
Certifying Officer, Division of Trade Adjustment Assistance.

[FR Doc. E9-5175 Filed 3-10-09; 8:45 am]

BILLING CODE 4510-FN-P